SECURITIES AND EXCHANGE COMMISSION

[File No. 500-1]

Valley Forge Composite Technologies, Inc.; Order of Suspension of Trading

April 21, 2014.

It appears to the Securities and Exchange Commission that there is a lack of current and accurate information concerning the securities of Valley Forge Composite Technologies, Inc. because it has not filed any periodic reports since the period ended September 30, 2012.

The Commission is of the opinion that the public interest and the protection of investors require a suspension of trading in the securities of the above-listed company. Therefore, it is ordered, pursuant to Section 12(k) of the Securities Exchange Act of 1934, that trading in the securities of the above-listed company is suspended for the period from 9:30 a.m. EDT on April 21, 2014, through 11:59 p.m. EDT on May 2, 2014.

By the Commission.
Kevin M. O'Neill,
Deputy Secretary.

[FR Doc. 2014-09314 Filed 4-21-14; 4:15 pm]

BILLING CODE 8011-01-P